DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Panel Member Survey to Develop Indicators of Resilient Coastal Tourism.

OMB Control Number: 0648-xxxx.

Form Number(s): NA.

Type of Request: Regular submission (request for a new information collection).

Number of Respondents: 29.

Average Hours per Response: Webinars, 60 minutes; surveys, 30 minutes.

Burden Hours: 116.

Needs and Uses: This request is for a new information collection.

The purpose of this survey is to better understand the factors that shape the tourism industry's ability to adapt to or bounce back from external shocks such as natural disasters, climate change, and economic downturns (i.e,. resiliency) in order to develop a set of indicators to measure the resiliency of coastal tourism. To help gather this information, NOAA will conduct a multi-round, iterative survey process based on the Delphi Method, which is a structured method for eliciting and combining expert opinion. The method requires indirect interaction among experts through a moderator. Experts make individual judgments, and these judgments are shared anonymously with the whole group. After viewing other experts' judgments, each expert is then given the opportunity to revise his or her own judgments, and the process is repeated. Theoretically, the goal of the Delphi study is to reach a consensus after a few rounds. In reality this rarely happens; thus, at the end of the Delphi rounds, the experts' final judgments are typically combined mathematically.

NOAA will apply the Delphi Method to a multi-round survey of panels of individuals with experience and insight into tourism resiliency and/or the tourism industry in two geographic areas: (1) The Central North Carolina Coast, and (2) the San Francisco Bay Area (inner and outer coast). Data to be collected through the survey include factors that may prevent or facilitate tourism resiliency as well as ranking or rating of those factors; suggested resiliency indicators; relevance and usefulness of resiliency indicators; and levels of respondent certainty with regard to their responses.

Affected Public: Business or other for-profit organizations; not-for-profit organizations; state, local or tribal governments.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Gwellnar Banks,
Management Analyst, Office of the Chief Information Officer.

[FR Doc. 2014-07425 Filed 4-2-14; 8:45 am]

BILLING CODE 3510-JE-P